INTERNATIONAL TRADE COMMISSION

[Investigation No. 337-TA-1212]

Certain Electronic Candle Products and Components Thereof; Commission Determination Not to Review an Initial Determination Terminating the Investigation Due to a Settlement Agreement; Termination of Investigation

AGENCY: U.S. International Trade Commission.

ACTION: Notice.

SUMMARY: Notice is hereby given that the U.S. International Trade Commission (“Commission”) has determined not to review an initial determination (“ID”) (Order No. 11) of the presiding administrative law judge (“ALJ”) granting a joint motion to terminate the investigation based on a settlement agreement. The investigation is hereby terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 17, 2020, the Commission instituted this investigation based on a complaint filed by complainants The Sterno Group Companies, LLC of Corona, California, and Sterno Home, Inc. of Coquitlam, British Columbia, Canada (collectively, “Sterno”). 85 FR 50048-49 (Aug. 17, 2020). The complaint alleges violations of section 337 of the Tariff Act of 1930, as amended, 19 U.S.C. 1337, in the importation into the United States, the sale for importation, or the sale within the United States after importation of certain electronic candle products and components thereof by reason of infringement of one or more of the asserted claims of Sterno's U.S. Patent Nos. 9,068,706; 10,024,507; 10,352,517; and 10,578,264. Id. at 50048. The complaint alleges a domestic industry exists. Id. The Commission's notice of institution identified the following respondents: Shenzhen Liown Electronics Co. of Shenzhen, Guangdong, China; Luminara Worldwide, LLC of Eden Prairie, Minnesota; and L&L Candle Co. of Brea, California (collectively, “Respondents”). Id. at 50049. The Office of Unfair Import Investigations (“OUII”) was also named as a party to this investigation. Id.

On November 12, 2020, Sterno and Respondents filed a joint motion to terminate the present investigation based on a settlement agreement, pursuant to Commission Rule 210.21(b) (19 CFR 210.21(b)). The parties included a public version of their settlement agreement in their joint motion and filed a confidential version of their agreement on November 13, 2020. On November 18, 2020, OUII filed a statement in support of the joint motion to terminate.

On November 23, 2020, the ALJ issued the subject ID (Order No. 11) granting the joint motion to terminate the investigation. Order No. 11 at 1, 3 (Nov. 23, 2020). The ID finds that the joint motion complied with the requirements of Commission Rule 210.21(b). Id. at 1-2. The ID also finds that the settlement agreement serves the public interest, which generally favors settlement of disputes, without adversely affecting public health or welfare, competitive conditions in the U.S. economy, the production of like or directly competitive articles in the United States, or U.S. consumers. Id. at 2-3.

No party filed a petition for review of the subject ID. The Commission has determined not to review the subject ID.

The present investigation is hereby terminated.

The Commission vote for this determination took place on December 8, 2020.

The authority for the Commission's determination is contained in section 337 of the Tariff Act of 1930, as amended (19 U.S.C. 1337), and in Part 210 of the Commission's Rules of Practice and Procedure (19 CFR part 210).

By order of the Commission.
Issued: December 8, 2020.
Lisa Barton,
Secretary to the Commission.

[FR Doc. 2020-27379 Filed 12-11-20; 8:45 am]

BILLING CODE 7020-02-P